DEPARTMENT OF JUSTICE

Notice of Lodging of Consent Decree Pursuant to the Comprehensive Environmental Response, Compensation and Liability Act

In accordance with Department of Justice policy codified at 28 CFR 50.7 and Section 122 of CERCLA, 42 U.S.C. 9622, notice is hereby given that May 26, 2000, two proposed Consent Decrees in United States v. Elsa Morgan-Skinner, et al., Civ. Action No. C-1-00-424, were lodged with the United States District Court for the Southern District of Ohio. The first Consent Decree represents a settlement of claims of the United States for recovery of response costs incurred by the United States in connection with the Skinner Landfill Superfund Site (Site) in West Chester, Ohio, under Section 107(a) of the Comprehensive Environmental Response, Compensation and Liability Act of 1980, as amended, 42 U.S.C. 9607(a), against Elsa Morgan-Skinner and seventy-two (72) other potentially responsible parties (PRPs) that contributed hazardous substances to the Site. Under the terms of the Consent Decree (the Remedial Action of “RA Consent Decree”), the Settling Generator/Transporter Defendants, including approximately sixty-six (66) companies, (Work Parties) will implement an EPA-approved remedial action which includes, among other things, the construction of a cap over a former dump and buried waste lagoon area; and the interception, capture and treatment of contaminated groundwater located down-gradient from the capped area. The Settling Owner/Operator Defendant Elsa Morgan-Skinner, the current Site owner, agrees to grant access to and restrictive use covenants on the Site, and resolves her liability by selling an option to purchase the site for $5,000 to the Work Parties. A portion of the proceeds of any such sale will be deposited into an account known as the Skinner Landfill Special Account. Two Settling Federal Agencies, the General Services Administration and the Defense Logistics Agency, will pay $602,599.12 into the Skinner Landfill Special Account. Finally, the Settling De Minimis Federal Agencies, including the United States Army, United States Air Force, United States Information Agency and the United States Postal Service, each of which contributed less than 1% of the total volume of waste at the Site, will pay $87,804.29 into the Skinner Landfill Special Account. Eighty percent of the funds in the Special Account will be available for disbursement to the Work Parties for their remediation work. In exchange for these payments and performance of the remedial action, each of the Settling Defendants under the RA Consent Decree will receive covenants not to sue and contribution protection.

The second Consent Decree resolves the United States' claims for recovery of response costs incurred at the Site against seven municipalities, including the Cities of Blue Ash, Deer Park, Madiera, Mason, Sharonville and the Villages of Lincoln Heights and Monroe, each of which contributed municipal solid waste (MSW) to the Site. Under the terms of this Consent Decree (known as the “MSW Consent Decree”) the Settling Municipalities will pay a total of $17,218 into the Skinner Special Account. These funds will be made available to the Work Parties for their remediation work. In exchange for this payment, each of the Settling Municipalities will receive a covenant not to sue and contribution protection.

From June 9, 2000, through July 10, 2000, the Department of Justice accepted comments on the proposed Consent Decrees. The Department of Justice will receive for an additional period of two weeks from the date of this publication comments relating to the proposed Consent Decrees. Comments should be addressed to the Assistant Attorney General of the Environment and Natural Resources Division, Department of Justice, 950 Pennsylvania, NW, Washington, DC 20530, and should refer to United States v. Elsa Morgan-Skinner et al. Civ. Action No. C-1-00-424; D.J. Ref. Nos. 90-11-3-1620, 90-11-6-118, 90-11-6-128.

The Consent Decrees may be examined at the Office of the United States Attorney, 220 United States Post Office & Courthouse, 100 E. 5th Street, Cincinnati, Ohio 45202, and at the United States Environmental Protection Agency, Region 5, 77 West Jackson Boulevard, Chicago, Illinois 60604-3590, or on the United States Environmental Protection Agency's internet website at www.epa.gov/region5/sites. A copy of the Consent Decrees may also be obtained by mail from the Consent Decree Library in amount of $65.50 for both Consent Decrees; or $60.00 (240 pages at 25 cents per page reproduction cost) for the RA Consent Decree; or $5.50 (22 pages at 25 cents per page reproduction cost) for the MSW Consent Decree.

Joel M. Gross,
Chief, Environmental Enforcement Section, Environment & Natural Resources Division.

[FR Doc. 00-19382 Filed 7-31-00; 8:45 am]

BILLING CODE 4410-15-M